DEPARTMENT OF TRANSPORTATION

Pipeline and Hazardous Materials Safety Administration

Office of Hazardous Materials Safety; Delayed Applications

AGENCY: Pipeline and Hazardous Materials Safety Administration (PHMSA), DOT.

ACTION: List of Applications Delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535

Key to “Reason for Delay”

1. Awaiting additional information from applicant

2. Extensive public comment under review

3. Application is technically complex and is of significant impact or precedent-setting and requires extensive analysis

4. Staff review delayed by other priority issues or volume of special permit applications

Meaning of Application Number Suffixes

N—New Application

M—Modification Request

R—Renewal Request

P—Party To Exemption Request

Issued in Washington, DC, on March 18, 2013.
Donald Burger,
Chief, General Approvals and Permits.

Application | Applicant | Reason for delay | Estimated date of completion
Modification to Special Permits
14562-M | The Lite Cylinder Company Franklin, TN | 3 | 05-31-2013
New Special Permit Applications
15650-N | JL Shepherd & Associates San Fernando, CA | 3 | 05-31-2013
Renewal Special Permits Applications
14455-R | EnergySolutions, LLC Oak Ridge, TN | 3 | 03-31-2013
15228-R | FedEx Express Memphis, TN | 3 | 03-31-2013
14832-R | Trinity Industries, Inc. Dallas, TX | 3 | 05-31-2013

[FR Doc. 2013-06692 Filed 3-25-13; 8:45 am]

BILLING CODE 4910-60-M